DEPARTMENT OF ENERGY

Federal Energy Regulatory Commission

[Docket No. CP03-57-001]

El Paso Natural Gas Company; Notice of Compliance Filing

March 16, 2004.

Take notice that on March 10, 2004, El Paso Natural Gas Company (El Paso) tendered for filing as part of its FERC Gas Tariff, Second Revised Volume No. 1-A, the following tariff sheets, to become effective April 10, 2004:

Tenth Revised Sheet No. 29

First Revised Sheet No. 322

First Revised Sheet No. 323

El Paso states that the tariff sheets implement the pro forma incremental fuel charge provisions accepted by the Commission applicable to El Paso's Bondad Expansion Facilities.

Any person desiring to protest said filing should file a protest with the Federal Energy Regulatory Commission, 888 First Street, NE., Washington, DC 20426, in accordance with § 385.211 of the Commission's rules and regulations. All such protests must be filed on or before the date as indicated below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: March 26, 2004.

Magalie R. Salas,
Secretary.

[FR Doc. E4-652 Filed 3-22-04; 8:45 am]

BILLING CODE 6717-01-P